DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Implantation and Recovery of Archival Tags.

Form Number(s): None.

OMB Approval Number: 0648-0338.

Type of Request: Regular submission.

Burden Hours: 21.

Number of Respondents: 30.

Average Hours per Response: Tag recovery, 30 minutes; written notification of beginning of tagging activity, 30 minutes; reports, 1 hour.

Needs and Uses: Under a scientific research exemption any person may catch, possess, retain, and land any Highly Migratory Species Division-regulated species in which an archival tag has been affixed or implanted, provided that the person immediately reports the landing to National Marine Fisheries Service (NMFS). In addition, any person affixing or implanting an archival tag to a regulated species is required to provide NMFS with written notification in advance of beginning the tagging activity, and to provide a written report upon completion of the activity.

Affected Public: Individual or household; business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at: dHynek@doc.gov).

Written comments and recommendations for the proposed information collection should be sent within 30 days of publication of this notice to David Rostker, OMB Desk Officer, fax number (202) 395-7285, or David_Rostker@omb.eop.gov.

Dated: March 19, 2008.
Gwellnar Banks,
Management Analyst, Office of the Chief Information Officer.

[FR Doc. E8-5873 Filed 3-21-08; 8:45am

BILLING CODE 3510-22-P